DEPARTMENT OF HEALTH AND HUMAN SERVICES

Centers for Disease Control and Prevention

[Program Announcement 02098]

Expansion of HIV/AIDS Care Services in Côte d'Ivoire; Notice of Award of Funds

A. Purpose

The Centers for Disease Control and Prevention (CDC) announces the availability of fiscal year (FY) 2002 funds for a cooperative agreement program for the expansion of HIV/AIDS care services in the Republic of Côte d'Ivoire.

The purpose of this cooperative agreement is to strengthen and expand the community response to Human Immunodeficiency Virus (HIV/AIDS) care services in the ten communities of Abidjan, the capital of Côte d'Ivoire, and selected secondary cities throughout the country.

B. Eligible Applicants

Applications may only be submitted by public and private non-profit and for profit-organizations, state and local governments or their bona fide agents, that currently conduct HIV/AIDS work in Côte d'Ivoire.

Applicants must have at least five years experience in HIV/AIDS work in Côte d'Ivoire including: Community mobilization for prevention of HIV/AIDS and promotion of voluntary counseling and testing; successful working relationships with both local and national government offices such as the mayors' office and the Ministries of Health and AIDS; establishment of support groups for people living with AIDS (PLWA); knowledge and understanding of resources available to create referral networks for clinical and psycho-social support for PLWA and families.

Note: Title 2 of the United States Code section 1611 states that an organization described in section 501(c)(4) of the Internal Revenue Code that engages in lobbying activities is not eligible to receive Federal funds constituting an award, grant, or loan.

C. Availability of Funds

Approximately $200,000 is available in FY 2002 to fund this award. It is expected that the average award will begin on or about September 30, 2002, and will be made for a 12-month budget period within a project period of up to three years. Annual funding estimates may change.

Continuation awards within the approved project period will be made on the basis of satisfactory progress as evidenced by required reports and the availability of funds.

Use of Funds

Funds received from this announcement will not be used for the purchase of antiretroviral drugs for treatment of established HIV infection (with the exception nevirapine in Prevention of Mother to Child Transmission (PMTCT) cases and with prior written approval), occupational exposures, and non-occupational exposures and will not be used for the purchase of machines and reagents to conduct the necessary laboratory monitoring for patient care.

Applicants may contract with other organizations under these cooperative agreements, however, applicants must perform a substantial portion of the activities (including program management, operations and delivery of prevention services) for which funds are requested.

The costs that are generally allowable in grants to domestic organizations are likewise allowable to foreign institutions and international organizations, with the following exceptions:

Indirect Costs: With the exception of the American University, Beirut, the Gorgas Memorial Institute, and the World Health Organization (WHO), indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

No funds appropriated under this Act shall be used to carry out any program of distributing sterile needles or syringes for the hypodermic injection of any illegal drug.

D. Where To Obtain Additional Information

This and other CDC announcements can be found on the CDC home page Internet address http://www.cdc.gov/. Click on “Funding” then “Grants and Cooperative Agreements.”

If you have questions after reviewing the contents of all the documents, business management technical assistance may be obtained from: Cynthia Collins, Grants Management Specialist, Grants Management Branch, Procurement and Grants Office, Centers for Disease Control and Prevention, 1600 Clifton Road, Mailstop E-15, Atlanta, GA 30333. Telephone number: (770) 488-2757. E-Mail: coc9@cdc.gov.

For program technical assistance, contact: Karen Ryder, MPH, CDC/HIV, 2010 Abidjan Place, Dulles, VA 20189-2010. Telephone: (404) 639-0911. E-Mail address: kkr1@cdc.gov.

Dated: October 9, 2002.
Edward J. Schultz,
Deputy Director, Procurement and Grants Office, Center for Disease Control and Prevention.

[FR Doc. 02-26526 Filed 10-17-02; 8:45 am]

BILLING CODE 4163-18-P